FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011075-052.

Title: Central America Discussion Agreement.

Parties:

Concorde Shipping, Inc.

Dole Ocean Cargo Express

Crowley Liner Services Inc.

Seaboard Marine, Ltd.

A.P. Moller-Maersk Sealand

Trinity Shipping Line, S.A.

APL Co. Pte. Ltd.

Nordana Line

P&O Nedlloyd Limited

King Ocean Central America, S.A.

Crowley American Transport, Inc.

Synopsis: The proposed modification deletes South Pacific Shipping Company, Ltd. as a party and revises the agreement to clarify the parties' authority with respect to time/volume rates.

Agreement No.: 011383-031.

Title: Venezuelan Discussion Agreement.

Parties:

Hamburg-Sudamerikanische Dampfschifffahrts-Gesellschaft Eggert & Amsinck, d/b/a Columbus Line

Nordana Line

A.P. Moller-Maersk SeaLand

Venezuelan Container Line C.A.

Lykes Lines Limited, LLC.

Hamburg-Sudamerikanische Dampfschifffahrts-Gesellschaft Eggert & Amsinck, d/b/a Crowley American Transport

American President Lines, Ltd.

Seaboard Marine Ltd.

Crowley Liner Services, Inc.

King Ocean Services, S.A.

SeaFreight Line

Synopsis: The amendment restates the agreement, deletes superfluous language, and permits any two or more of the parties to negotiate and enter into joint service contracts. The parties request expedited consideration.

Dated: June 16, 2000.
By Order of the Federal Maritime Commission.
Theodore A. Zook,
Assistant Secretary.

[FR Doc. 00-15669 Filed 6-20-00; 8:45 am]

BILLING CODE 6730-01-P